DEPARTMENT OF HEALTH AND HUMAN SERVICES

Substance Abuse and Mental Health Services Administration

Center for Mental Health Services; Notice of Meeting

Pursuant to Pub. L. 92-463, notice is hereby given of the meeting of the Center for Mental Health Services (CMHS) National Advisory Council in September 2003.

A portion of the meeting will be open and will include a roll call, general announcements, Director's and Administrator's Reports, and discussions about the Substance Abuse and Mental Health Service (SAMHSA)'s Grant Review Process, SAMHSA's activities surrounding the Faith-Based Initiative, and President's New Freedom Commission on Mental Health.

Public comments are welcome. Please communicate with the individual listed as contact below for guidance. If anyone needs special accommodations for persons with disabilities please notify the contact listed below.

The meeting will also include the review, discussion, and evaluation of grant applications, which precede this grant review.

Therefore a portion of the meeting will be closed to the public as determined by the SAMHSA Administrator, in accordance with title 5 U.S.C. 552b(c)(6) and 5 U.S.C. App. 2. & 10 (d).

A summary of the meeting and a roster of Council members may be obtained from Ms. Dale Kaufman, Executive Secretary, CMHS, Room 17-99, Parklawn Building, Rockville, Maryland 20857, telephone (301) 443-2660.

Committee Name: CMHS National Advisory Council.

Meeting Date: September 4-5, 2003.

Place: The Doubletree Hotel, The Regency Room, 1750 Rockville Pike, Rockville, Maryland.

Type: Closed: September 4, 2003, 8:30 a.m.-10:30 a.m. Open: September 4, 2003, 11 a.m.-5 p.m. Open: September 5, 2003, 9 a.m.-12:15 p.m.

Contact: Dale Kaufman, MPH, MA, Executive Secretary, 5600 Fishers Lane, Parklawn Building, Room 17-99, Rockville, Maryland 20857. Telephone: (301) 443-2660 and FAX (301) 443-1563.

August 21, 2003.
Toian Vaughn,
Committee Management Officer, Substance Abuse and Mental Health Services Administration.

[FR Doc. 03-21836 Filed 8-26-03; 8:45 am]

BILLING CODE 4162-20-P